OFFICE OF UNITED STATES TRADE REPRESENTATIVE

Notice of Cancellation·of Partially Opened Meeting of the Industry Trade Advisory Committee on Small and Minority Business (ITAC 11)

AGENCY: Office of the United States Trade Representative.

ACTION: Notice of cancellation of partially opened meeting.

SUMMARY: This notice cancels the partially open meeting of the Industry Trade Advisory Committee on Small and Minority Business (ITAC 11) scheduled for Monday, May 19, 2014 from 3:00-4:00 p.m..

FOR FURTHER INFORMATION CONTACT: Laura Hellstem, Designated Federal Officer, Industry Trade Advisory Center (ITAC), U.S. Department of Commerce, 1401 Constitution Ave. NW., Room 4043, Washington, DC 20230; by Fax: (202) 482-3268; or by email: Laura.Hellstem@trade.gov.

SUPPLEMENTARY INFORMATION: The May 19, 2014 partially open meeting from 3:00-4:00 p.m. of the Industry Trade Advisory Committee on Small and Minority Business (ITAC 11) is cancelled. The meeting was originally announced in the Federal Registry on May 6, 2014 at 79 FR 2014-10267, pages 25982-25983.

Jewel James,
Assistant United State Trade Representative, For Intergovernmental Affairs and Public Engagement.

[FR Doc. 2014-11420 Filed 5-15-14; 8:45 am]

BILLING CODE 3290-F4-P